DEPARTMENT OF TRANSPORTATION

Federal Aviation Administration

14 CFR Part 71

[Docket No. FAA-2021-0325; Airspace Docket No. 21-AGL-20]

RIN 2120-AA66

Proposed Amendment and Revocation of Class E Airspace; Michigan, MI

AGENCY: Federal Aviation Administration (FAA), DOT.

ACTION: Notice of proposed rulemaking (NPRM).

SUMMARY: This action proposes to amend the Class E airspace area extending upward from 1,200 feet above the surface over the State of Michigan and remove overlapping and redundant enroute domestic airspace areas within these boundaries. The FAA is proposing this action to correct, simplify, and close gaps in the Class E airspace extending upward from 1,200 feet above the surface over the State of Michigan; provide transitional airspace to support instrument flight rule (IFR) operations to and from the terminal and enroute environments within the state; and improve air traffic control services over the state.

DATES: Comments must be received on or before May 20, 2021.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2021-0325/Airspace Docket No. 21-AGL-20, at the beginning of your comments. You may also submit comments through the internet at https://www.regulations.gov. You may review the public docket containing the proposal, any comments received, and any final disposition in person in the Dockets Office between 9:00 a.m. and 5:00 p.m., Monday through Friday, except federal holidays.

FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class E airspace area extending upward from 1,200 feet above the surface over the State of Michigan and remove the enroute domestic airspace at Upper Peninsula, MI; Iron Mountain, MI; and Newberry, MI, which would become redundant, to correct, simplify, and close gaps in the Class E airspace extending upward from 1,200 feet above the surface over the State of Michigan; provide transitional airspace to support IFR operations to and from the terminal and enroute environments within the state; and improve air traffic services over the state.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2020-0325/Airspace Docket No. 21-AGL-20.” The postcard will be date/time stamped and returned to the commenter.

Pursuant to FAA Order 7400.2M, Procedures for Handling Airspace Matters, the FAA typically provides the public with a 45 day comment period. However, the FAA finds a basis exists to deviate from the FAA Order 7400.2M and provide a 30 day comment period. This action provides an overall solution to various issues with the Class E airspace over the State of Michigan and corrects an error made in Docket 20-AGL-37, Marquette, MI, which revoked certain Class E airspace and created Class G airspace in its place (85 FR 83764, Dec. 23, 2020). The FAA is currently addressing this issue with a temporary Notice to Airmen (NOTAM), PNM 04/081 ZMP. As the NOTAM is a short term solution and this action would establish a long term solution that eliminates any safety risks stemming from confusion with regard to the requirements in that airspace, the FAA finds the 30 day comment period justified.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Proposal

The FAA is proposing an amendment to Title 14 Code of Federal Regulations (14 CFR) part 71 by:

Amending the Class E airspace area extending upward from 1,200 feet above the surface within the boundary of the State of Michigan by removing the limitation of “south of parallel 45°45′ ” from the airspace legal description; and

Removing the enroute domestic airspace area over the Upper Peninsula, MI; Iron Mountain, MI; and Newberry, MI, as they would be redundant with the amendment of the Class E airspace area extending upward from 1,200 feet above the surface within the boundary of the State of Michigan.

This action is being proposed to correct, simplify, and close gaps in the Class E airspace extending upward from 1,200 feet above the surface over the State of Michigan; provide transitional airspace to support IFR operations to and from the terminal and enroute environments within the state; and improve air traffic control services over the State of Michigan.

Class E airspace designations are published in paragraphs 6005 and 6006, respectively, of FAA Order 7400.11E, dated July 21, 2020, and effective September 15, 2020, which is incorporated by reference in 14 CFR 71.1. The Class E airspace designations listed in this document will be published subsequently in the Order.

FAA Order 7400.11, Airspace Designations and Reporting Points, is published yearly and effective on September 15th.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6005 Class E Airspace Areas Extending Upward From 700 Feet or More Above the Surface of the Earth.

* * * * *

AGL MI E5 Michigan, MI [Amended]

That airspace extending upward from 1,200 feet above the surface within the boundary of the State of Michigan.

Paragraph 6006 En Route Domestic Airspace Areas.

* * * * *

AGL MI E6 Upper Peninsula, MI [Removed]

AGL MI E6 Iron Mountain, MI [Removed]

AGL MI E6 Newberry, MI [Removed]

Issued in Fort Worth, Texas, on April 14, 2021.
Martin A. Skinner,
Acting Manager, Operations Support Group, ATO Central Service Center.

[FR Doc. 2021-08009 Filed 4-19-21; 8:45 am]

BILLING CODE 4910-13-P